SECURITIES AND EXCHANGE COMMISSION

Sunshine Act Meetings

Notice is hereby given, pursuant to the provisions of the Government in the Sunshine Act, Public Law 94-409, that the Securities and Exchange Commission will hold an open meeting on September 16, 2009 at 10 a.m., in the Auditorium, Room L-002, and a closed meeting on September 16, 2009 at 11 a.m.

The subject matter of the September 16, 2009 open meeting will be:

The Commission will hear oral argument in an appeal by Rodney R. Schoemann, a Louisiana resident, from the decision of an administrative law judge. The law judge found that Schoemann violated Sections 5(a) and 5(c) of the Securities Act of 1933 in November 2004 by offering and selling the securities of Stinger Systems, Inc. when no registration statement was filed or in effect with respect to those securities and no exemption from registration was available. The law judge ordered Schoemann to cease and desist from committing or causing any violations or future violations of Sections 5(a) and 5(c) of the Securities Act, and ordered Schoemann to disgorge $967,901 in profits, plus prejudgment interest, from his sales of the securities.

Among the issues likely to be argued are

1. Whether Schoemann's sales of the securities at issue violated the Securities Act; and

2. Whether sanctions should be imposed in the public interest.

Commissioners, Counsel to the Commissioners, the Secretary to the Commission, and recording secretaries will attend the closed meeting. Certain staff members who have an interest in the matters also may be present.

The General Counsel of the Commission, or his designee, has certified that, in his opinion, one or more of the exemptions set forth in 5 U.S.C. 552b(c)(3), (5), (7), 9(B) and (10) and 17 CFR 200.402(a)(3), (5), (7), 9(ii) and (10), permit consideration of the scheduled matters at the closed meeting.

Commissioner Paredes, as duty officer, voted to consider the items listed for the closed meeting in a closed session.

The subject matter of the September 16, 2009 closed meeting will be:

Institution and settlement of injunctive actions;

Institution and settlement of administrative proceedings;

Other matters relating to enforcement proceedings; and

An opinion.

At times, changes in Commission priorities require alterations in the scheduling of meeting items.

For further information and to ascertain what, if any, matters have been added, deleted or postponed, please contact:

The Office of the Secretary at (202) 551-5400.

Dated: September 9, 2009.
Elizabeth M. Murphy,
Secretary.

[FR Doc. E9-22105 Filed 9-10-09; 11:15 am]

BILLING CODE 8010-01-P